COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products and services from the Procurement List previously furnished by such agencies.

DATES Effective Date: 7/30/2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION

Additions

On 5/26/2017 (82 FR 24308-24309), 6/2/2017 (82FR 25602), and 6/16/2017 (82 FR 27698), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s):

MR 10760—Activity Pack, Licensed, Pokemon, Includes Shipper 20760

MR 10761—Sticker Pack, Licensed, Pokemon, Includes Shipper 20760

MR 10762—Pen, Licensed, Pokemon, Includes Shipper 20762

MR 10763—Kid's Baking Tools, Licensed, Whisk and Spoon, Includes Shipper 20763

MR 10764—Kid's Baking Tools, Licensed, Turner and Spatula, Includes Shipper 20763

MR 10765—Kid's Baking Tools, Licensed, Rolling Pin and Cookie Cutters, Includes Shipper 20763

MR 10766—Kid's Baking Tools, Licensed, Decorating Set, Includes Shipper 20763

Mandatory Source(s) of Supply: Winston-Salem Industries for the Blind, Inc., Winston-Salem, NC

NSN(s)—Product Name(s):

MR 1176—Mop, Sticky

MR 1177—Refill, Mop, Sticky

Mandatory Source(s) of Supply: LC Industries, Inc., Durham, NC

NSN(s)—Product Name(s): MR 804—Grill Basket

Mandatory Source(s) of Supply: Cincinnati Association for the Blind, Cincinnati, OH

The following information is applicable to all products listed above.

Mandatory for: The requirements of military commissaries and exchanges in accordance with the Code of Federal Regulations 41 CFR 51-6.4.

Contracting Activity: Defense Commissary Agency

Distribution: C-List

Services

Service Type: Individual Equipment Elements (IEE) Store

Mandatory for: U.S. Air Force, Elmendorf AFB, 10480 Sijan Avenue, Joint Base Elmendorf-Richardson, AK

Mandatory Source(s) of Supply: RLCB, Inc., Raleigh, NC

Contracting Activity: DEPT OF THE AIR FORCE, FA5000 673 CONS LGC

Service Type: Dispenser Machine Support Service

Mandatory for: U.S. Navy, Naval Medical Center San Diego, 34800 Bob Wilson Drive, San Diego, CA

Mandatory Source(s) of Supply: Job Options, Inc., San Diego, CA

Contracting Activity: DEPT OF THE NAVY, NAVAL MEDICAL CENTER

Service Type: Grounds Maintenance

Mandatory for: U.S. Coast Guard, U.S. Coast Guard Base Los Angeles/Long Beach, 1001 S. Seaside Avenue, San Pedro, CA

Mandatory Source(s) of Supply: Goodwill Industries of Southern California, Panarama City, CA

Contracting Activity: U.S. COAST GUARD, SILC BSS (00084)

Deletions

On 5/19/2017 (82 FR 22972) and 5/26/2017 (82 FR 24308-24309), the Committee for Purchase From People Who Are Blind or Severely Disabled published notice of proposed deletions from the Procurement List.

After consideration of the relevant matter presented, the Committee has determined that the product(s) and/or service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 5340-00-NSH-0008—Loop, Kevlar

5340-00-NSH-0009—Link, Quick Release

Mandatory Source(s) of Supply: Community Option Resource Enterprises, Inc. (COR Enterprises), Billings, MT

Contracting Activity: NAVSUP WEAPON SYSTEMS SUPPORT

NSN(s)—Product Name(s): MR 508—Candle, Spring Scents

Mandatory Source(s) of Supply: South Texas Lighthouse for the Blind, Corpus Christi, TX

Contracting Activity: Defense Commissary Agency

NSN(s)—Product Name(s): 8410-01-069-6611—Shirt, Dress, Navy, Women's, Short Sleeved, White, 32 × 13

Mandatory Source(s) of Supply: Middle Georgia Diversified Industries, Inc., Dublin, GA

Contracting Activity: Defense Logistics Agency Troop Support

NSN(s)—Product Name(s):

8415-01-390-8537—Coat, Combat Type VI, Army, Woodland Camouflage, XS/XS

8415-01-390-8538—Coat, Combat Type VI, Army, Woodland Camouflage, XS/R

8415-01-390-8539—Coat, Combat Type VI, Army, Woodland Camouflage, Small/Short

8415-01-390-8540—Coat, Combat Type VI, Army, Woodland Camouflage, Small/X Long

8415-01-390-8541—Coat, Combat Type VI, Army, Woodland Camouflage, Medium/X Short

8415-01-390-8542—Coat, Combat Type VI, Army, Woodland Camouflage, Medium/XX Short

8415-01-390-8543—Coat, Combat Type VI, Army, Woodland Camouflage, Small/Long

8415-01-390-8544—Coat, Combat Type VI, Army, Woodland Camouflage, Medium Regular

8415-01-390-8545—Coat, Combat Type VI, Army, Woodland Camouflage, Small/Regular

8415-01-390-8546—Coat, Combat Type VI, Army, Woodland Camouflage, X Small/Short

8415-01-390-8547—Coat, Combat Type VI, Army, Woodland Camouflage, Medium/X Long

8415-01-390-8548—Coat, Combat Type VI, Army, Woodland Camouflage, Medium/Short

8415-01-390-8549—Coat, Combat Type VI, Army, Woodland Camouflage, Medium/Long

8415-01-390-8550—Coat, Combat Type VI, Army, Woodland Camouflage, Large/Regular

8415-01-390-8551—Coat, Combat Type VI, Army, Woodland Camouflage, Large/X Long

8415-01-390-8552—Coat, Combat Type VI, Army, Woodland Camouflage, X Large/Long

8415-01-390-8553—Coat, Combat Type VI, Army, Woodland Camouflage, Large/Long

8415-01-390-8555—Coat, Combat Type VI, Army, Woodland Camouflage, XLR

8415-01-390-8557—Coat, Combat Type VI, Army, Woodland Camouflage, LXS

8415-01-390-9641—Coat, Combat Type VI, Army, Woodland Camouflage, XSS

8415-01-390-9646—Coat, Combat Type VI, Army, Woodland Camouflage, XSXS

8415-01-390-9648—Coat, Combat Type VI, Army, Woodland Camouflage, LS

Mandatory Source(s) of Supply: UNKNOWN

Contracting Activity: Defense Logistics Agency Troop Support

NSN(s)—Product Name(s): 2320-01-398-7190—Combat Identification Kit, HMMWV TOW Platform, Brown

Mandatory Source(s) of Supply: Crossroads Rehabilitation Center, Inc., Indianapolis, IN

Contracting Activity: W4GG HQ US ARMY TACOM

NSN(s)—Product Name(s): 8415-00-NSH-0503—Shirt, Underwear, Collared, Chemical Protection, MPS, Army, 56

Mandatory Source(s) of Supply: Peckham Vocational Industries, Inc., Lansing, MI

Contracting Activity: W40M NORTHERN REGION CONTRACT OFC

Services

Service Type: Custodial Service

Mandatory for: GSA, Parking Lot: 12th & C Streets, SW., Washington, DC

Mandatory Source(s) of Supply: Anchor Mental Health Association, Washington, DC

Contracting Activity: PUBLIC BUILDINGS SERVICE, WPHBD—WEST REPAIR & ALTERATIONS CONTRACTS BRANCH

Service Type: Janitorial/Custodial Services

Mandatory for: GSA Federal Supply Service Depot: 4100 West 76th Street, Chicago, IL

Mandatory Source(s) of Supply: Lester and Rosalie Anixter Center, Chicago, IL

Contracting Activity: General Services Administration, FPDS Agency Coordinator

Service Type: Switchboard Operation Service

Mandatory for: Eglin Air Force Base: East of Memorial Trail (excluding the airfield), Eglin, FL

Mandatory Source(s) of Supply: Lakeview Center, Inc., Pensacola, FL

Contracting Activity: Dept of the Air Force, FA2823 AFTC PZIO

Barry S. Lineback,
Director, Business Operations.

[FR Doc. 2017-13834 Filed 6-29-17; 8:45 am]

BILLING CODE 6353-01-P